DEPARTMENT OF THE INTERIOR

National Park Service

[NPS-WASO-NRNHL-DTS#-33422; PPWOCRADI0, PCU00RP14.R50000]

National Register of Historic Places; Notification of Pending Nominations and Related Actions

AGENCY: National Park Service, Interior.

ACTION: Notice.

SUMMARY: The National Park Service is soliciting electronic comments on the significance of properties nominated before February 12, 2022, for listing or related actions in the National Register of Historic Places.

DATES: Comments should be submitted electronically by March 11, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 12, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

GEORGIA

De Kalb County

College Avenue Bridge, Covered Bridge Ln. (1000 Robert E. Lee Blvd., Stone Mountain Park), Stone Mountain vicinity, SG100007520

MASSACHUSETTS

Middlesex County

Browne-Masonic Building, 126-150 Pleasant St., Malden, SG100007522

MICHIGAN

Wayne County

Burbank, Luther, Elementary School, (Public Schools of Detroit MPS), 15600 East State Fair Ave., Detroit, MP100007521

MISSOURI

Crawford County

Shamrock Court, (Route 66 in Missouri MPS), 1246 South Service Rd., Sullivan, MP100007530

Jackson County

St. Francis Xavier Parish Church & Rectory, 1001 East 52nd St., Kansas City, SG100007529

OREGON

Multnomah County

South Park Blocks, 1003 SW Park Ave., Portland, SG100007518

TEXAS

Harris County

Pasadena Post Office, 102 North Munger St., Pasadena, SG100007523

UTAH

Morgan County

Morgan Historic District, Roughly bounded by 700 East, 350 North, 400 West and 300 South, Morgan, SG100007519

Salt Lake County

Taylorsville LDS Ward Meetinghouse, 1247 West 4800 South, Taylorsville, SG100007527

VERMONT

Bennington County

Bull, William C., House, 219 Pleasant St., Bennington, SG100007531

VIRGINIA

Nottoway County

WSVS Radio Station, 1032 Melody Ln., Crewe, SG100007524

Additional documentation has been received for the following resource:

UTAH

Salt Lake County

University Neighborhood Historic District (Additional Documentation), Roughly bounded by 500 South, South Temple St., 100 East, and University St., Salt Lake City, AD95001430

Authority: Section 60.13 of 36 CFR part 60.

Dated: February 15, 2022.
Sherry A. Frear,
Chief, National Register of Historic Places/National Historic Landmarks Program.

[FR Doc. 2022-03862 Filed 2-23-22; 8:45 am]

BILLING CODE 4312-52-P